DEPARTMENT OF TRANSPORTATION

National Highway Traffic Safety Administration

[Docket No. NHTSA-2022-0114; Notice 2]

Winnebago Industries, Inc., Denial of Petition for Decision of Inconsequential Noncompliance

AGENCY: National Highway Traffic Safety Administration (NHTSA), Department of Transportation (DOT).

ACTION: Denial of petition.

SUMMARY: Winnebago Industries, Inc., (Winnebago or petitioner), has determined that certain model year (MY) 2013-2023 Winnebago motorhomes do not fully comply with Federal Motor Vehicle Safety Standard (FMVSS) No. 108, Lamps, Reflective Devices, and Associated Equipment. Winnebago filed a noncompliance report dated November 11, 2022, and amended the report on December 2, 2022, and May 17, 2023. Winnebago petitioned NHTSA on December 2, 2022, and amended the petition on May 17, 2023, for a decision that the subject noncompliance is inconsequential as it relates to motor vehicle safety. This document announces the denial of Winnebago's petition.

FOR FURTHER INFORMATION CONTACT: Leroy Angeles, Office of Vehicle Safety Compliance, NHTSA, (202) 366-5304.

SUPPLEMENTARY INFORMATION:

I. Overview: Winnebago determined that certain MY 2013-2023 Winnebago motorhomes do not fully comply with paragraph S6.4.1 and Table IV-a of FMVSS No. 108, Lamps, Reflective Devices, and Associated Equipment (49 CFR 571.108).

Winnebago filed a noncompliance report dated November 11, 2022, and amended the report on December 2, 2022, and May 17, 2023, pursuant to 49 CFR part 573, Defect and Noncompliance Responsibility and Reports. Winnebago petitioned NHTSA on December 2, 2022, and amended its petition on May 17, 2023, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

Notice of receipt of Winnebago's petition was published with a 30-day public comment period, on August 1, 2023, in the Federal Register (88 FR 50276). No comments were received. To view the petition and all supporting documents log onto the Federal Docket Management System (FDMS) website at https://www.regulations.gov/. Then follow the online search instructions to locate docket number “NHTSA-2022-0114.”

II. Vehicles Involved: Winnebago reported that 13,126 of the following motorhomes, manufactured between April 5, 2012, and November 4, 2022, are potentially involved:

• 2015-2021 Winnebago Vista

• 2015-2021 Winnebago Sunstar

• 2013-2019 Winnebago Horizon

• 2014-2023 Winnebago Forza

• 2018-2021 Winnebago Intent

• 2015-2016 Winnebago Brave

• 2015-2016 Itasca Tribute

III. Rule Requirements: Paragraphs S6.4.1 and S7.1.1.6 and Table IV-a of FMVSS No. 108 include the requirements relevant to this petition.¹ Each turn signal lamp, stop lamp, high-mounted stop lamp, and school bus signal lamp must meet the applicable effective projected luminous lens area requirement specified in Tables IV-a, IV-b, and IV-c of FMVSS No. 108. For the subject vehicles, the luminous lens area of the turn signals shall be no smaller than 7,500 square millimeters.

¹ In an email dated April 9, 2024, Winnebago clarified that the front turn signal is affected by the subject noncompliance, therefore paragraph S7.1.1.6 of FMVSS No. 108 also include the requirement relevant to Winnebago's petition.

IV. Noncompliance: Winnebago explains that the subject vehicles are equipped with front turn signal lamps that do not meet the luminous lens area requirements specified by S7.1.1.6 and Table IV-a of FMVSS No. 108. Specifically, the luminous lens area of the turn signals equipped in the subject vehicles is 6,361 square millimeters, thus, 1,139 square millimeters smaller than the minimum area required by the standard.

V. Summary of Winnebago's Petition: The following views and arguments presented in this section, “V. Summary of Winnebago's Petition,” are the views and arguments provided by Winnebago. They do not reflect the views of NHTSA. Winnebago describes the subject noncompliance and contends that the noncompliance is inconsequential as it relates to motor vehicle safety.

Winnebago submits that NHTSA has previously explained that the purpose of FMVSS No. 108 is to reduce traffic accidents by, among other things, “enhancing the conspicuity of motor vehicles on the public roads so that their presence is perceived, and their signals understood, both in daylight and in darkness or other conditions of reduced visibility.” Winnebago further adds that in a 1990 final rule notice that increased the minimum lens area for wide vehicles from 8 square inches (i.e., 5,161.28 sq mm) to 12 square inches (i.e., 7,741 sq mm), NHTSA explained that the increase in lens area is necessary because wide vehicles “are susceptible to build up of grime” and “an increase in lens area would enhance vehicle conspicuity and contribute to safety.”

Winnebago says that around July 2022, it was informed by a lamp supplier that there “was concern about the compliance of turn signals installed in certain Winnebago vehicles . . .” Specifically, with the “minimum effective projected luminous area requirements of FMVSS No. 108.” Winnebago says it investigated the turn signals in the subject vehicles and confirmed that the “effective projected luminous lens area” is 6,361 square millimeters and thus, approximately 1,139 square millimeters smaller than the required minimum lens area.

Winnebago says that other than the size of the effective projected luminous lens area for the turn signals in the subject vehicles, the turn signals are fully compliant with all applicable performance requirements. Winnebago states that the turn signals at issue “have been in use for more than 15 years” and “is not aware of any crashes, injuries, customer complaints or field reports in connection with this noncompliance.” Winnebago states its belief that although the turn signal lens area is slightly smaller than the required minimum, the difference in size is “likely to be imperceptible to both vehicle occupants and approaching drivers, and do not have an effect on the conspicuity of the motorhomes on which they are installed.”

Winnebago states its belief that NHTSA increased the required minimum lens area for turn signals in wide vehicles due to the concern of buildup of grime and dirt. Winnebago claims that the turn signals on motorhomes “are generally well maintained by their owners compared to other classes of wide vehicles. Thus, a slightly smaller turn signal would not reasonably result in a buildup of dirt and grime on turn signals . . .”

Winnebago concludes by reiterating the subject noncompliance is inconsequential as it relates to motor vehicle safety and that its petition for exemption from providing notice and remedy for the noncompliance be granted.

VI. NHTSA's Analysis: The burden of establishing the inconsequentiality of a failure to comply with a performance requirement in an FMVSS is substantial and difficult to meet. Accordingly, the Agency has not found many such noncompliances inconsequential.²

² Cf. Gen. Motors Corporation; Ruling on Petition for Determination of Inconsequential Noncompliance, 69 FR 19897, 19899 (Apr. 14, 2004) (citing prior cases where noncompliance was expected to be imperceptible, or nearly so, to vehicle occupants or approaching drivers).

In determining inconsequentiality of a noncompliance, NHTSA focuses on the safety risk to individuals who experience the type of event against which a recall would otherwise protect.³ In general, NHTSA does not consider the absence of complaints or injuries when determining if a noncompliance is inconsequential to safety. The absence of complaints does not mean vehicle occupants have not experienced a safety issue, nor does it mean that there will not be safety issues in the future.⁴ Further, because each inconsequential noncompliance petition must be evaluated on its own facts and determinations are highly fact-dependent, NHTSA does not consider prior determinations as binding precedent. Petitioners are reminded that they have the burden of persuading NHTSA that the noncompliance is inconsequential to safety.

³ See Gen. Motors, LLC; Grant of Petition for Decision of Inconsequential Noncompliance, 78 FR 35355 (June 12, 2013) (finding noncompliance had no effect on occupant safety because it had no effect on the proper operation of the occupant classification system and the correct deployment of an air bag); Osram Sylvania Prods. Inc.; Grant of Petition for Decision of Inconsequential Noncompliance, 78 FR 46000 (July 30, 2013) (finding occupant using noncompliant light source would not be exposed to significantly greater risk than occupant using similar compliant light source).

⁴ See Morgan 3 Wheeler Limited; Denial of Petition for Decision of Inconsequential Noncompliance, 81 FR 21663, 21666 (Apr. 12, 2016); see also United States v. Gen. Motors Corp., 565 F.2d 754, 759 (D.C. Cir. 1977) (finding defect poses an unreasonable risk when it “results in hazards as potentially dangerous as sudden engine fire, and where there is no dispute that at least some such hazards, in this case fires, can definitely be expected to occur in the future”).

NHTSA has evaluated the merits of Winnebago's petition and determined Winnebago has not met its burden of persuasion that the subject noncompliance is inconsequential to motor vehicle safety.

The subject vehicles' failure to be equipped with turn signals compliant with the minimum lens area requirement reduces other road users' visibility of the signal lamps. Reduced visibility may lead other roadway users to lack understanding of the subject vehicle's intent to turn or make lane changes. This may, in turn, increase the risk of a crash. The effective projected luminous lens area (EPLLA) requirement serves other safety purposes, including but not limited to, minimizing glare by keeping intrinsic brightness within reason and increases visibility and conspicuity of the lamps. Further, NHTSA disagrees with Winnebago's statement that the lenses are “slightly smaller” than the required minimum of 7,500 square millimeters. The lamps at issue have an area 15 percent smaller than the required minimum area. Thus, NHTSA is not persuaded that the noncompliant lenses “do not have an effect on the conspicuity of the vehicles” at issue here.

Additionally, although Winnebago claims the lamps are otherwise compliant, Winnebago provided no rationale explaining why meeting other non-related requirements compensates for meeting the subject requirements. Therefore, NHTSA did not find this argument persuasive.

Concerning Winnebago's claims about the buildup of dirt and grime, Winnebago did not provide any data to support their statement that motorhome owners “keep their vehicles clean.” Regardless, NHTSA can identify multiple likely scenarios where vehicles get dirty during normal use as well as in extreme weather events such as while driving in the snow or on salted roads. Furthermore, as NHTSA stated in the preamble to the 1990 final rule referenced by the petitioner, the masking effects of road grime, dirt and winter slush are even greater on lamps with smaller lens areas. Since Winnebago's lamps are less than the required lens area, NHTSA continues to be concerned about this masking effect on the lamps subject to this petition.

VII. NHTSA's Decision: In consideration of the foregoing, NHTSA has decided that Winnebago has not met its burden of persuasion that the subject FMVSS No. 108 noncompliance is inconsequential to motor vehicle safety. Accordingly, Winnebago's petition is hereby denied and Winnebago is consequently obligated to provide notification of and free remedy for that noncompliance under 49 U.S.C. 30118 and 30120.

(Authority: 49 U.S.C. 30118, 30120; 49 CFR part 556; delegations of authority at 49 CFR 1.95 and 501.8)

Eileen Sullivan,
Associate Administrator for Enforcement.

[FR Doc. 2024-21707 Filed 9-20-24; 8:45 am]

BILLING CODE 4910-59-P